DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of December 19, 2016 through December 30, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
92,086 | Wing Fai Label Inc | Bells, CA | August 2, 2015.
92,153 | Duro Textiles, LLC, Abel Associates | Fall River, MA | August 29, 2015.
92,357 | Samson Technologies Corporation, Sam Ash Music Corporation, Randstad US and Access Staffing | Hauppauge, NY | October 24, 2015.

The following certifications have been issued. The requirements of Section 222(a)(2)(B) (shift in production or services) of the Trade Act have been met.

TA-W No. | Subject firm | Location | Impact date
91,289 | CommScope Connectivity LLC, ADC Telecommunications, Inc., Sidney, CommScope Technologies, etc | Sidney, NE | December 24, 2014.
91,483 | Sprint, Hampton Call Center | Hampton, VA | February 19, 2015.
91,515 | Sprint, Shared Services, Commissions Operations and Compensations and Incentives | Overland Park, KS | February 24, 2015.
91,802 | CooperSurgical Inc., The Cooper Companies, HART Employment Services | Pasadena, CA | May 12, 2015.
91,809 | Sprint, Overland Park Call Center | Overland Park, KS | May 12, 2015.
91,824 | Paso Del Norte Publishing, Inc., El Diario De El Paso | El Paso, TX | May 18, 2015.
92,183 | Applied Materials, Applied Materials Inc., Division of Common Solutions Mfg. Group, etc | Austin, TX | August 8, 2016.
92,198 | Ericsson, Inc., Insight Global, GlobalLogic, and Essential | Plano, TX | September 12, 2015.
92,229 | BASF Corporation, BASF SE, Brown & Root Industrial Services and Insulation & Refractories | West Memphis, AR | September 20, 2015.
92,232 | Loud Technologies, EAW Division, Microtech Staffing | Whitinsville, MA | September 14, 2015.
92,252 | LDLA Holdings LLC, Division of Garment Sample Coordinators | Los Angeles, CA | September 27, 2015.
92,350 | Bosch Rexroth Corporation, Industrial and Mobile Applications Division, Robert Bosch LLC, etc | Bethlehem, PA | October 20, 2015.
92,352 | GE Fairchild, LLC, GE Transportation, Adecco | Glen Lyn, VA | October 20, 2015.
92,364 | GE Dover Products Plant, GE Lighting, GE Lighting Inc | Dover, OH | October 25, 2015.
92,364A | Tungsten Products Plant, GE Lighting, GE Lighting Inc | Euclid, OH | October 25, 2015.
92,382 | Flowserve Corporation, Nesco Resources, Aerotek, and Affinity | Lawrence, MA | October 28, 2015.
92,404 | Yodle Web.com, Inc., Client Services Division, Web.com Group, Inc | Austin, TX | November 8, 2015.
92,409 | GE Packaged Power, Inc., General Electric Company, Kelly Services | Houston, TX | November 9, 2015.
92,424 | WorleyParsons Group, Inc., Reading Office, WorleyParsons Ltd., Energy Resourcing Americas | Reading, PA | November 16, 2015.
92,467 | Lufkin-RMT, GE Oil and Gas | Wellsville, NY | December 6, 2015.
92,492 | Getinge-La Calhene USA, Getinge-La Calhene SAS | Rush City, MN | December 15, 2015.
92,493 | Pentair Technical Solutions, Panel Shop, Pentair plc, AmeriTech Staffing, Inc., CoWorx Staffing Services | Houston, TX | December 15, 2015.

The following certifications have been issued. The requirements of Section 222(b) (downstream producer for a firm whose workers are certified eligible to apply for TAA) of the Trade Act have been met.

TA-W No. | Subject firm | Location | Impact date
92,398 | Kahului Trucking and Storage, Inc., Bulk Sugar and Molasses Division, Alexander and Baldwin, Inc | Kahului, HI | November 3, 2015.

Negative Determinations for Worker Adjustment Assistance

In the following cases, the investigation revealed that the eligibility criteria for worker adjustment assistance have not been met for the reasons specified.

The investigation revealed that the criterion under paragraph (a)(1), or (b)(1) (employment decline or threat of separation) of section 222 has not been met.

TA-W No. | Subject firm | Location | Impact date
91,666 | Haymarket Media, Inc., Production Department | New York, NY
92,250 | IBEX Global | Indiana, PA

The investigation revealed that the criteria under paragraphs (a)(2)(A)(i) (decline in sales or production, or both) and (a)(2)(B) (shift in production or services to a foreign country) of section 222 have not been met.

TA-W No. | Subject firm | Location | Impact date
92,335 | Titanium Wire Corporation, ATI Specialty Alloys and Components Division, Allegheny Technologies, etc | Frackville, PA

The investigation revealed that the criteria under paragraphs (a)(2)(A) (increased imports) and (a)(2)(B) (shift in production or services to a foreign country) of section 222 have not been met.

TA-W No. | Subject firm | Location | Impact date
91,882 | SPX FLOW, Inc., SPX Flow Technology, Adecco, Manpower, SGF Global, Remedy Staffing, etc | McKean, PA
91,918 | Lufkin Industries LLC, Gear Repair Division, GE Oil & Gas, Malone's Cleaning Service, Inc | Lufkin, TX
91,924 | Mattel, Inc., Design and Development, Pro Unlimited | El Segundo, CA
91,946 | York Metal Toll Processing | Syracuse, NY
91,993 | TimkenSteel Corporation, Harrison Steel Plant | Canton, OH
91,993A | TimkenSteel Corporation, Faircrest Steel Plant | Canton, OH
91,993B | TimkenSteel Corporation, Faircrest Steel Plant | Canton, OH
92,010 | Atos IT Solutions and Services, Inc., NSC Global | Redmond, WA
92,286 | Salem Hospital, Salem Health, Division of Medical Transcriptionists | Salem, OR

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
92,142 | Erickson Inc., Division of Accounting, Payroll, and Expense Reporting, NW Staffing, etc | Portland, OR

I hereby certify that the aforementioned determinations were issued during the period of December 19, 2016 through December 30, 2016. These determinations are available on the Department's Web site https://www.doleta.gov/tradeact/taa/taa_search_form.cfm under the searchable listing determinations or by calling the Office of Trade Adjustment Assistance toll free at 888-365-6822.

Signed at Washington, DC, this 3rd day of January 2017.
Hope D. Kinglock,
Certifying Officer, Office of Trade Adjustment Assistance.

[FR Doc. 2017-01215 Filed 1-18-17; 8:45 am]

BILLING CODE 4510-FN-P